DEPARTMENT OF COMMERCE

MINORITY BUSINESS DEVELOPMENT AGENCY

Meeting of the National Advisory Council on Minority Business Enterprise

AGENCY: Minority Business Development Agency, U.S. Department of Commerce

ACTION: Notice of an open meeting.

SUMMARY: The National Advisory Council for Minority Business Enterprise (NACMBE) will hold its third meeting to discuss the work of the three subcommittees and deliverables to fulfill the NACMBE's charter mandate. The agenda may change to accommodate Council business.

DATES: The meeting will be held on Thursday, September 29, 2011 from 8 a.m. to 5 p.m. Eastern Time (ET).

ADDRESSES: The meeting will be held at the Marriott Wardman Park Hotel, 2660 Woodley Road, NW., Washington, DC 20008.

FOR FURTHER INFORMATION CONTACT: Demetria Gallagher, National Director's Office, Minority Business Development Agency (MBDA), U.S. Department of Commerce at (202) 482-1624 e-mail: dgallagher@mbda.gov.

SUPPLEMENTARY INFORMATION:

Background: The Secretary of Commerce established the NACMBE pursuant to his discretionary authority and in accordance with the Federal Advisory Committee Act, as amended (5 U.S.C. App. 2) on April 28, 2010. The NACMBE is to provide the Secretary of Commerce with recommendations from the private sector on a broad range of policy issues that affect minority businesses and their ability to access successfully the domestic and global marketplace.

Topics to be considered: During the meeting the three subcommittees will report on their work and the Council will discuss and deliberate on possible recommendations. The Subcommittee topics include: (1) Definition of Minority Business Enterprises (MBEs) and MBDA's role, (2) Creation of an MBE Forum, and (3) Strategic Alliances & Exports.

Public Participation: The meeting is open to the public. Public seating is limited and available on a first-come, first-served basis. Members of the public wishing to attend the meeting must notify Demetria Gallagher at the contact information above by 5 p.m. EST on Thursday, September 22, 2011, to preregister. Please specify any requests for reasonable accommodation at least ten (10) business days in advance of the meeting. Last minute requests will be accepted, but may not be possible to fulfill.

A limited amount of time, in the afternoon, will be available for pertinent brief oral comments from members of the public attending the meeting. Any member of the public may submit pertinent written comments concerning affairs of the NACMBE at http://www.mbda.gov/main/nacmbe-submit-comments. To be considered during the meeting, comments must be received no later than 5 p.m. ET on Wednesday, September 21, 2011, to ensure transmission to the Council prior to the meeting. Comments received after that date will be distributed to the members but may not be considered at the meeting.

This meeting is physically accessible to people with disabilities. Requests for sign language interpretation or other auxiliary aids should be directed to Demetria Gallagher, at (202) 482-1624, or dgallagher@mbda.gov, at least ten (10) days before the meeting date.

Copies of the NACMBE open meeting minutes will be available to the public upon request.

Dated: September 1, 2011.
David A. Hinson,
National Director, Minority Business Development Agency.

[FR Doc. 2011-23343 Filed 9-12-11; 8:45 am]

BILLING CODE 3510-21-P